DEPARTMENT OF JUSTICE

Notice of Lodging of Settlement Agreement Pursuant to the Federal Insecticide, Fungicide, and Rodenticide Act and the Comprehensive Environmental Response, Compensation, and Liability Act

In accordance with 28 CFR 50.7 and 42 U.S.C. 9622(i), notice is hereby given that on September 13, 2005, a Settlement Agreement was lodged with the United States District Court for the District of Puerto Rico in United States v. Tropical Fruit, S.E., et al., Civil Action No. 97-1442-DRD. On October 25, 2001, the Court entered Decree between the United States, on behalf of the U.S. Environmental Protection Agency (“EPA”), and defendants pursuant to the Federal Insecticide, Fungicide, and Rodenticide Act (“FIFRA”), 7 U.S.C. 136 et seq., and the Comprehensive Environmental Response, Compensation, and Liability Act (“CERCLA”), 42 U.S.C. 9601, et seq., with respect to a Farm located in Rural Zone Boca, Guayanilla, Puerto Rico. The Consent Decree required Defendants to pay $35,000 in penalties and CERCLA response costs and to comply with extensive injunctive relief measures, including the creation of a non-spray buffer zone on the northern and a portion of the western perimeter of the Farm which will vary in width up to 173 feet. In December 2004, the United States filed a Motion to Enforce the Consent Decree and for stipulated penalties in that the United States alleged that Defendants violated certain provisions of the Consent Decree including the requirement that Defendants remove ore relocate mango trees and banana trees from the buffer zone area, and replace them with plantain trees which would not be sprayed.

The United States and Defendants have reached a proposed agreement to resolve the United States' Motion to Enforce the Consent Decree and its request for stipulated penalties, which Settlement Agreement requires Defendants, inter alia, to remove or relocate the mango trees they were required to remove or relocate under the Decree by April 1, 2006, which schedule will allow Defendants to transplant the mango trees elsewhere at the Farm, and to replace them with bananas or plantains. The Settlement Agreement authorizes the Farm to plant, in two perimeter areas, an extra low of neem trees as a barrier instead of planting bananas of plantains. The Settlement Agreement allows Defendants to apply low-toxicity pesticides in limited circumstances and under application restrictions in buffer zone areas to address an outbreak of Sigatoka Negra. The Settlement Agreement also requires the Farm to pay a stipulated penalty of $50,000 over a one year period, plus interest.

The proposed Settlement Agreement may be examined at the office of the United States Attorney, Federal Building Room 452, Carlos Chardon Avenue, Hato Rey, PR 00918, and at two offices of the Environmental Protection Agency, Region II: EPA, 290 Broadway, 17th floor, New York, NY 10007-1866 or EPA, Carribean Environmental Division, Centro Europa Building, Suite 417, 1492 Ponce De Leon, Stop 22, Santurce, Puerto Rico, 00907-4127. During the public comment period, the Settlement Agreement may also be examined on the following Department of Justice Web site, http://www.usdoj.gov/enrd/open.html. A copy of the proposed Settlement Agreement may also be obtained by mail from the Consent Decree Library, PO Box 7611, U.S. Department of Justice, Washington, DC 20044-7611 or by faxing or e-mailing a request to Tonia Fleetwood (tonia.fleetwood@usdoj.gov), fax no. (202) 514-0097, phone confirmation no. (202) 514-1547, referencing DOJ No. 1-1700/1. For a copy of the proposed Settlement Agreement including the signature pages and attachments, in requesting a copy, please enclose a check (there is a 25 cent per page reproduction cost) in the amount of $3.50 payable to the U.S. Treasury.

Ronald G. Gluck,
Assistant Chief, Environmental Enforcement Section, Environmental & Natural Resources Division.

[FR Doc. 05-18883 Filed 9-21-05; 8:45 am]

BILLING CODE 4410-15-M